DEPARTMENT OF HEALTH AND HUMAN SERVICES

National Institutes of Health

Government-Owned Inventions; Availability for Licensing

AGENCY: National Institutes of Health, HHS.

ACTION: Notice.

SUMMARY: The invention listed below is owned by an agency of the U.S. Government and is available for licensing.

FOR FURTHER INFORMATION CONTACT: Licensing information and copies of the U.S. patent application listed below may be obtained by communicating with the indicated licensing contact at the Technology Transfer and Intellectual Property Office, National Institute of Allergy and Infectious Diseases, 5601 Fishers Lane, Rockville, MD 20852; tel. 301-496-2644. A signed Confidential Disclosure Agreement will be required to receive copies of unpublished patent applications.

SUPPLEMENTARY INFORMATION: The invention listed below is owned by an agency of the U.S. Government and is available for licensing in the U.S. in accordance with 35 U.S.C. 209 and 37 CFR part 404 to achieve expeditious commercialization of results of federally-funded research and development. Foreign patent applications are filed on selected inventions to extend market coverage for companies and may also be available for licensing. Technology description follows.

Use of Roseomonas species to treat eczematous (atopic dermatitis) skin disease Description of Technology:

Atopic dermatitis, also known as eczema, is a chronic itchy skin disease that affects over 20% of infants and young children in industrialized nations and may persist into adulthood for up to 50% of these cases, making it one of the most common skin diseases in the US and other developed countries.

Scientists at NIAID have developed a method of treating or preventing atopic dermatitis via the topical application of selected probiotic strains of gram-negative Roseomonas mucosa bacteria. This approach avoids the exhausting treatment demands of standard therapies and has been shown to be beneficial in a preclinical mouse model of atopic dermatitis.

Potential Commercial Applications:

• Treatment of eczema

Competitive Advantages:

• May be formulated as a cream or ointment

• Corticosteroid-free

• Animal data available

Development Stage:

• In vivo data available (animal)

Inventors: Ian A. Myles, Sandip Kumar Datta, all of NIAID.

Publications: Myles IA, et al. Transplantation of human skin microbiota in models of atopic dermatitis. JCI Insight, 2016, Jul 7; 1(10). [PMID 27478874].

Intellectual Property: HHS Reference No. E-099-2016/0—US Patent Application No. 62/324,762 filed April 19, Year 2016.

Licensing Contact: Dr. David Yang, 240-627-3413; polung.yang@nih.gov. Collaborative Research Opportunity: The National Institute of Allergy and Infectious Diseases is seeking statements of capability or interest from parties interested in collaborative research to further develop, evaluate or commercialize the use of Roseomonas species to treat eczematous (atopic dermatitis) skin disease. For collaboration opportunities, please contact Dr. David Yang, 240-627-3413; polung.yang@nih.gov.

Dated: Septenber 30, 2016.
Suzanne Frisbie,
Deputy Director, Technology Transfer and Intellectual Property Office, National Institute of Allergy and Infectious Diseases.

[FR Doc. 2016-24134 Filed 10-5-16; 8:45 am]

BILLING CODE 4140-01-P